DEPARTMENT OF HEALTH AND HUMAN SERVICES

National Institutes of Health

National Institute of Allergy and Infectious Diseases; Amended Notice of Closed Meeting

Notice is hereby given of a change in the meeting of the National Institute of Allergy and Infectious Diseases Special Emphasis Panel NIAID Investigator Initiated Program Project Applications (P01 Clinical Trial Not Allowed) which was published in the Federal Register on September 30, 2022, FR Doc 2022-21261, 87 FR 59446.

Amendment to change meeting date from October 26, 2022, to November 14, 2022. The meeting is closed to the public.

Dated: October 25, 2022.
Tyeshia M. Roberson-Curtis,
Program Analyst, Office of Federal Advisory Committee Policy.

[FR Doc. 2022-23540 Filed 10-27-22; 8:45 am]

BILLING CODE 4140-01-P